DEPARTMENT OF COMMERCE

International Trade Administration

[C-469-818]

Ripe Olives From Spain: Preliminary Results of Countervailing Duty Administrative Review; 2017-2018

AGENCY: Enforcement and Compliance, International Trade Administration, Department of Commerce.

SUMMARY: The Department of Commerce (Commerce) is conducting an administrative review of the countervailing duty (CVD) order on ripe olives from Spain. Commerce preliminarily determines that exporters/producers of ripe olives from Spain received countervailable subsidies during the period of review, November 28, 2017 through December 31, 2018. Interested parties are invited to comment on these preliminary results.

DATES: Applicable December 28, 2020.

FOR FURTHER INFORMATION CONTACT: Mary Kolberg, Dusten Hom, or William Langley, AD/CVD Operations, Office I, Enforcement and Compliance, International Trade Administration, U.S. Department of Commerce, 1401 Constitution Avenue NW, Washington, DC 20230; telephone: (202) 482-1785, (202) 482-5075, (202) 482-3861, respectively.

SUPPLEMENTARY INFORMATION:

Background

On October 7, 2019, Commerce published the notice of initiation of an administrative review of the CVD order on ripe olives from Spain.¹ On April 24, 2020, Commerce tolled all deadlines in administrative reviews by 50 days.² On May 26, 2020, Commerce extended the deadline for the preliminary results of this review by 120 days.³ On July 21, 2020, Commerce tolled deadlines for preliminary and final results in administrative reviews by an additional 60 days.⁴ Accordingly, the deadline for the preliminary results of this review was postponed to December 18, 2020.

¹ See Initiation of Antidumping and Countervailing Duty Administrative Reviews, 84 FR 53411 (October 7, 2019).

² See Memorandum, “Tolling of Deadlines for Antidumping and Countervailing Duty Administrative Reviews in Response to Operational Adjustments due to COVID-19,” dated April 24, 2020.

³ See Memorandum, “Ripe Olives from Spain: Extension of Deadline for Preliminary Results of 2017-2018 Countervailing Duty Administrative Review,” dated May 26, 2020.

⁴ See Memorandum, “Tolling of Deadlines for Antidumping and Countervailing Duty Administrative Reviews,” dated July 21, 2020.

For a complete description of the events that followed the initiation of this review, see the Preliminary Decision Memorandum.⁵ A list of topics discussed in the Preliminary Decision Memorandum is included as the appendix to this notice. The Preliminary Decision Memorandum is a public document and is on file electronically via Enforcement and Compliance's Antidumping and Countervailing Duty Centralized Electronic Service System (ACCESS). ACCESS is available to registered users at http://access.trade.gov. In addition, a complete version of the Preliminary Decision Memorandum can be accessed directly at http://enforcement.trade.gov/frn/. The signed and electronic versions of the Preliminary Decision Memorandum are identical in content.

⁵ See Memorandum, “Decision Memorandum for the Preliminary Results of the 2017-2018 Countervailing Duty Administrative Review of Ripe Olives from Spain,” dated concurrently with, and hereby adopted by, this notice (Preliminary Decision Memorandum).

Scope of the Order

The products covered by the order are ripe olives from Spain. For a complete description of the scope of this administrative review, see the Preliminary Decision Memorandum.⁶

⁶ See Memorandum, “Ripe Olives from Spain: Decision Memorandum for Preliminary Results of Countervailing Duty Administrative Review; 2017-2018,” dated concurrently with, and hereby adopted by, this notice (Preliminary Decision Memorandum).

Methodology

Commerce is conducting this administrative review in accordance with section 751(a)(1)(A) of the Tariff Act of 1930, as amended (the Act). For each of the subsidy programs found countervailable, Commerce preliminarily determines that there is a subsidy, i.e., a financial contribution by an “authority” that gives rise to a benefit to the recipient, and that the subsidy is specific.⁷ For a full description of the methodology underlying our conclusions, see the Preliminary Decision Memorandum.

⁷ See sections 771(5)(B) and (D) of the Act regarding financial contribution; section 771(5)(E) of the Act regarding benefit; and section 771(5A) of the Act regarding specificity.

Commerce notes that, in making these findings, it relied, in part, on facts otherwise available pursuant to section 776(a) of the Act, as well as adverse facts available pursuant to section 776(b) of the Act. For further information, see “Use of Facts Otherwise Available” in the Preliminary Decision Memorandum.

Preliminary Results of Review

We preliminarily determine the following net countervailable subsidy rates for the period November 28, 2017 through December 31, 2018:

Company | Subsidy rate (percent)
Alimentary Group DCoop S.Coop. And | 21.12
Agro Sevilla Aceitunas S.Coop. And | 6.47
Angel Camacho Alimentación, S.L ⁸ | 5.23
⁸ As discussed in the Preliminary Decision Memorandum, Commerce has found the following companies to be cross-owned with Angel Camacho Alimentación, S.L.: Grupo Angel Camacho Alimentacíon, Cuarterola S.L., and Cucanoche S.L.

Assessment Rates

Consistent with section 751(a)(1) of the Act and 19 CFR 351.212(b)(2), upon issuance of the final results, Commerce will determine, and U.S. Customs and Border Protection (CBP) shall assess, countervailing duties on all appropriate entries covered by this review. We intend to issue instructions to CBP 15 days after publication of the final results of this review.

Cash Deposit Requirements

In accordance with section 751(a)(2)(C) of the Act, Commerce also intends to instruct CBP to collect cash deposits of estimated countervailing duties in the amounts shown above for the respective companies listed above with regard to shipments of subject merchandise entered, or withdrawn from warehouse, for consumption on or after the date of publication of the final results of this review. For all non-reviewed firms, CBP will continue to collect cash deposits of estimated countervailing duties at the all-others rate or the most recent company-specific rate applicable to the company, as appropriate. These cash deposit requirements, when imposed, shall remain in effect until further notice.

Disclosure and Public Comment

Commerce intends to disclose its calculations and analysis performed in reaching the preliminary results within seven days of publication of these preliminary results.⁹ Commerce also intends to issue post-preliminary analysis memoranda subsequent to the publication of this notice. Commerce will notify the parties to this proceeding of the deadlines for the submission of case and rebuttal briefs after the issuance of the last post-preliminary analysis memorandum.¹⁰ Pursuant to 19 CFR 351.309(d)(2), rebuttal briefs must be limited to issues raised in the case briefs.¹¹ Parties who submit arguments are requested to submit with the argument: (1) A statement of the issue; (2) a brief summary of the argument; and (3) a table of authorities. All briefs must be filed electronically using ACCESS.

⁹ See 19 CFR 351.224(b).

¹⁰ See 19 CFR 351.309; see also 19 CFR 351.303 (for general filing requirements); Temporary Rule Modifying AD/CVD Service Requirements Due to COVID-19, 85 FR 17006 (March 26, 2020); and Temporary Rule Modifying AD/CVD Service Requirements Due to COVID-19; Extension of Effective Period, 85 FR 41363 (July 10, 2020) (Temporary Rule).

¹¹ See 19 CFR 351.309; see also 19 CFR 351.303 (for general filing requirements).

Pursuant to 19 CFR 351.310(c), interested parties who wish to request a hearing must submit a written request to the Assistant Secretary for Enforcement and Compliance, filed electronically via ACCESS by 5 p.m. Eastern Time within 30 days after the date of publication of this notice. Hearing requests should contain: (1) the party's name, address, and telephone number; (2) the number of participants; and (3) a list of the issues to be discussed. Issues addressed at the hearing will be limited to those raised in the briefs. If a request for a hearing is made, Commerce intends to hold the hearing at a date and time to be determined.

Commerce intends to issue the final results of this administrative review, including the results of our analysis of the issues raised by the parties in their comments, no later than 120 days after the date of publication of this notice, pursuant to section 751(a)(3)(A) of the Act and 19 CFR 351.213(h)(1) unless this deadline is extended.

Notification to Interested Parties

These preliminary results and notice are issued and published in accordance with sections 751(a) and 777(i)(1) of the Act and 19 CFR 351.221(b)(4)

Dated: December 18, 2020.
Jeffrey I. Kessler,
Assistant Secretary for Enforcement and Compliance.

Appendix

List of Topics Discussed in the Preliminary Decision Memorandum

I. Summary

II. Background

III. Scope of the Order

IV. Subsidies Valuation Information

V. Use of Facts Otherwise Available

VI. Analysis of Programs

VII. Recommendation

[FR Doc. 2020-28589 Filed 12-23-20; 8:45 am]

BILLING CODE 3510-DS-P